DEPARTMENT OF COMMERCE

National Oceanic and Atmospheric Administration

50 CFR Part 229

[Docket No. 950605147-5209-0; I.D. 052395C]

RIN 0648-AH33

Taking of Marine Mammals Incidental to Commercial Fishing Operations; Authorization for Commercial Fisheries; Correction

AGENCY: National Marine Fisheries Service (NMFS), National Oceanic and Atmospheric Administration (NOAA), Commerce.

ACTION: Final rule, correcting amendment.

SUMMARY: NMFS issued a final rule to implement a new management regime for the unintentional taking of marine mammals incidental to commercial fishing operations, which was published in the Federal Register on August 30, 1995. The purpose of this document is to correct an unintended error in the definition of “negligible impact,” which provides a reference to a section number of the regulations that has been changed.

DATES: Effective February 11, 2004.

FOR FURTHER INFORMATION CONTACT: Patricia Lawson, NMFS, Office of Protected Resources, (301) 713-2322.

SUPPLEMENTARY INFORMATION:

Background

The regulations that are the subject of this correction pertain to section 118 of the Marine Mammal Protection Act of 1972, as amended, which provides for exceptions for the taking of marine mammals incidental to certain commercial fishing operations from the Act's general moratorium on the taking of marine mammals.

Correction

This document corrects an unintended error. The definition of “negligible impact” in 50 CFR 229.2 simply refers to the definition of the same term in 50 CFR 228.3. The definition in 50 CFR 228.3 has been moved to 50 CFR 216.103. However, the definition in 50 CFR 229.2 still refers to 50 CFR 228.3. Therefore, in 50 CFR 229.2, the definition for “negligible impact” refers to § 228.3; the correct reference is § 216.103.

Classification

The Assistant Administrator finds that good cause exists to waive the requirement to provide prior notice and the opportunity for comment, pursuant to authority set forth at 5 U.S.C. 553(b)(B), as such procedures would be unnecessary. Prior notice and opportunity for comment are unnecessary because this amendment corrects an error in a reference to a section number in the regulations and will have a de minimus effect, if any, on the regulated community. This correction does not increase the scope of the regulated community. This correction does not increase the scope of the regulated community nor add new requirements. In addition, because this rule corrects a provision and makes non-substantive or de minimus changes to the regulations, the Assistant Administrator finds good cause under 5 U.S.C. 553(d) not to delay the effective date of this final rule for 30 days.

Because a general notice of proposed rulemaking is not required under 5 U.S.C. 553, or any other law, the analytical requirements of the Regulatory Flexibility Act, 5 U.S.C. 601 et seq., are inapplicable.

Dated: February 4, 2003.
William T. Hogarth,
Assistant Administrator, National Marine Fisheries Service.

List of Subjects in 50 CFR Part 229

Administrative practice and procedure, Reporting and recordkeeping requirements.

For the reasons set out in the preamble, 50 CFR part 229 is amended as follows:

PART 229—AUTHORIZATION FOR COMMERCIAL FISHERIES UNDER THE MARINE MAMMAL PROTECTION ACT OF 1972

1. The authority citation for part 229 continues to read as follows:

Authority: 16 U.S.C. 1361 et seq.

2. In § 229.2, the definition of “Negligible impact” is revised to read as follows:

§ 229.2 Definitions.

* * * * *

Negligible impact has the same meaning as in § 216.103 of this chapter.

* * * * *

[FR Doc. 04-2981 Filed 2-10-04; 8:45 am]

BILLING CODE 3510-22-S